CONSUMER PRODUCT SAFETY COMMISSION

Sunshine Act Meetings

Time and Date: Wednesday, February 1, 2006; 10 a.m.

Place: Room 420, Bethesda Towers, 4330 East West Highway, Bethesda, Maryland.

Status: Open to the public.

Matters to be Considered: Final Rule for the Flammability (Open Flame) of Mattress Sets.

The Commission will be briefed by the Commission staff and consider the Commission staff recommendations regarding the final draft standard for mattress flammability (open flame), additional research, updated supporting materials, and responses to major public comments on the CPSC's January 13, 2005, Notice of Proposed Rulemaking.

For a recorded message containing the latest agenda information, call (301) 504-7948.

FOR FURTHER INFORMATION CONTACT: Todd A. Stevenson, Office of the Secretary, U.S. Consumer Product Safety Commission, 4330 East West Highway, Bethesda, MD 20814 (301) 504-7923.

Dated: January 18, 2006.
Todd A. Stevenson,
Secretary.

[FR Doc. 06-672 Filed 1-19-06; 2:28 pm]

BILLING CODE 6355-01-M